DEPARTMENT OF HEALTH AND HUMAN SERVICES

Centers for Disease Control and Prevention

Comprehensive Community and Home-Based Care and Support for People Living With HIV and AIDS in India

Announcement Type: New.

Funding Opportunity Number: 04201.

Catalog of Federal Domestic Assistance Number: 93.941.

Key Dates:

Application Deadline: July 12, 2004.

I. Funding Opportunity Description

Authority: This program is authorized under section 307 of the Public Health Service Act, [42 U.S.C. Section 2421], as amended.

Purpose: The purpose of the program is to improve the quality of life of people living with HIV/AIDS in India and their families. With the recent commitment by the government of India to provide antiretroviral (ARV) treatment to a large population of people living with HIV/AIDS, there is an urgent need to implement sustainable and comprehensive programs for comprehensive community and home-based care in areas of high prevalence and high risk. This is accomplished by supporting, sustaining and expanding current activities for comprehensive community and home-based care and support for people living with HIV and AIDS in India.

Measurable outcomes of the program will be in alignment with the following performance goal(s) for the National Center for HIV, STD and TB Prevention (NCHSTP): initiate, expand or strengthen HIV/AIDS prevention, care, treatment and support activities globally.

The measurable outcomes of the program will be in alignment with goals of the Global AIDS Program (GAP), NCHSTP to reduce HIV transmission and improve care of persons living with HIV.

The program will also contribute to the United States Federal Government's goals of:

• Increasing the proportion of HIV infected people who are linked to appropriate prevention, care and treatment services.

• Increasing the proportion of HIV infected persons who know they are infected.

• Decreasing the number of persons at high-risk for acquiring or transmitting HIV infection.

Activities:

Awardee activities for this program are as follows:

• Collaborate with CDC, the Government of India, the Indian Network of Positive People, Non-Governmental Organizations (NGOs) and other partners to ensure: (1) That there is country ownership of all activities; (2) that proposed activities complement existing efforts within India; and (3) that activities are supportive of indigenous expertise and institutions.

• Collaborate with CDC, the Government of India, the Indian Network of Positive People, NGOs and other partners for the development of capacity for the local and national level Ministries of Health, care providers, NGOs, groups and networks of HIV positive people and other in-country partners to deliver services.

• Develop and implement community and home level intervention programs with vulnerable populations such as youth (age 15-29 years old), women and migrant populations living in selected high prevalence (urban and rural) areas. Intervention programs may include: (1) Provision of voluntary counseling and testing for HIV/STD and/or tuberculosis; (2) provision of care and treatment for HIV/STD and/or tuberculosis; (3) Information, Education and Communication (IEC) campaigns; and (3) behavior change for HIV infected and uninfected persons.

• Focus on the following specific activities:

1. Voluntary Counseling and Testing (VCT): implement, monitor, and evaluate HIV counseling and testing programs. Identify barriers and concerns raised in providing VCT. Implement and coordinate, with other national programs, to help reduce HIV-related fear, stigma, discrimination and isolation.

2. STD prevention and care: expand and improve the diagnosis and treatment of STDs, including risk reduction counseling and education, as a means of reducing the continued transmission of HIV.

3. Prevention and Youth: implement youth-focused prevention/intervention programs, testing prevention programs, secondary prevention for HIV-positive youth, and build youth development programs.

4. Implement HIV/AIDS care, support, and treatment, at the community level, and in the homes of persons and their families affected by HIV, to prevent and treat HIV and related opportunistic infections with a special emphasis on tuberculosis.

5. Design and implement palliative care programs for persons and their families affected by HIV.

6. Increase access to health care, build capacity, and strengthen linkages for follow up of individuals from the health care institutions to the community and home.

7. Increase access to psycho-social services, economic support, and prevention services for people living with HIV/AIDS and their families.

8. Increase community support for people living with HIV/AIDS and their families.

9. Develop and improve the capacity of local partners, Government and private health services, NGOs, groups and networks of people living with HIV, and other community groups to provide home-based care and support services.

10. Participate in specific India-based workgroups that develop and review ongoing country assistance activities. The product of these workgroups will define the activities of the collaborating agencies.

11. Develop activities to document critical components necessary for expansion and replication of community and home-based programs in other areas in India.

12. Develop and implement a program for monitoring and evaluation of all program components.

In a cooperative agreement, CDC staff is substantially involved in the program activities, above and beyond routine grant monitoring.

CDC Activities for this program are as follows:

• Collaborate with the Government of India, USAID India mission and other partners to assist recipient in the development of plans for program assistance based upon the needs of the selected communities, the CDC technical assistance portfolio, and HIV prevention activities conducted by other partners. This also includes the development of a strategic plan for expansion of activities into other high prevalence areas.

• Provide consultations and scientific and technical assistance based on the CDC GAP goals to promote the use of best practices known at this time. This may include provision of technical assistance including support from CDC staff and/or CDC/GAP partners for designing, planning, implementing and monitoring community and home-based care activities in selected high prevalence areas. This may also include support for assessment visits, direct technical reviews, and the review of existing materials available for people living with HIV; and development of information and education resources for people living with HIV/AIDS.

• Facilitate in-country planning and review meetings for the purpose of ensuring coordination of country-based program technical assistance activities. CDC will act as liaison and assist in coordinating activities as required between the applicant and other NGOs, government of India organizations, and other CDC, GAP partners.

Technical assistance and training may be provided directly by CDC staff or through organizations that have successfully competed for funding under a separate CDC contract.

II. Award Information

Type of Award: Cooperative Agreement.

CDC involvement in this program is listed in the Activities Section above.

Fiscal Year Funds: FY 2004.

Approximate Total Funding: $3,500,000. (This amount is for the entire five-year project period.)

Approximate Number of Awards: 1.

Approximate Average Award: $700,000. (This amount is for the first 12-month budget period, and includes only direct costs).

Floor of Award Range: $600,000.

Ceiling of Award Range: $700,000.

Anticipated Award Date: September 1, 2004.

Budget Period Length: 12 months.

Project Period Length: Five years.

Throughout the project period, CDC's commitment to continuation of awards will be conditioned on the availability of funds, evidence of satisfactory progress by the recipient (as documented in required reports), and the determination that continued funding is in the best interest of the Federal government.

III. Eligibility Information

III.1. Eligible Applicants

Applications may be submitted by public and private nonprofit organizations, and by governments and their agencies, such as:

• Public nonprofit organizations.

• Private nonprofit organizations.

Organizations must be based in India.

III.2. Cost Sharing or Matching

Matching funds are not required for this program.

III.3. Other

If you request a funding amount greater than the ceiling of the award range, your application will be considered non-responsive and will not be entered into the review process. You will be notified that your application did not meet the submission requirements.

If your application is incomplete or non-responsive to the requirements listed below, it will not be entered into the review process. You will be notified that your application did not meet the submission requirements.

Applicants must have:

1. At least five years of experience in delivering HIV, STD and/or TB prevention and care programs in India.

2. At least three years of experience implementing programs to deliver and monitor care and support for HIV/AIDS at both the community and the home-based level in India. These programs must be ongoing and established in high risk communities in high prevalence states in India.

In December of 2003, the government of India made a landmark commitment to collaborate with the World Health Organization in implementing their initiative of “Treating 3 Million People by 2005” by providing antiretroviral treatment to a large population of people living with HIV/AIDS in India. As a result an urgent immediate need exists to support, expand and sustain activities for comprehensive community and home-based care for HIV positive individuals and family members. Starting an effective community and home-based HIV care program from scratch, including establishing partnerships with key partners cannot be accomplished in the limited time required. To successfully address and meet the critical time sensitive need for rapid scale up, an established program with demonstrated partnerships within the HIV positive community and a proven track record must be identified and utilized to respond to the government's initiative and the CDC GAP.

IV. Application and Submission Information

IV.1. Address To Request Application Package

To apply for this funding opportunity use application form PHS 5161. Application forms and instructions are available on the CDC Web site, at the following Internet address: http://www.cdc.gov/od/pgo/forminfo.htm.

If you do not have access to the Internet, or if you have difficulty accessing the forms on-line, you may contact the CDC Procurement and Grants Office Technical Information Management Section (PGO-TIM) staff at: (770) 488-2700. Application forms can be mailed to you.

IV.2. Content and Form of Submission

Application: You must submit a project narrative with your application forms. Your narrative must be submitted in the following format:

• Maximum number of pages: 25. If your narrative exceeds the page limit, only the first pages which are within the page limit will be reviewed.

• Double spaced.

• Font size: 12 point unreduced.

• Paper size: 8.5 by 11 inches.

• Page margin size: One inch.

• Printed only on one side of page.

• Held together only by rubber bands or metal clips; not bound in any other way.

• Must be submitted in English.

Your narrative should address activities to be conducted over the entire project period, and must include the following items in the order listed:

• Plan.

• Objectives.

• Activities.

• Methods of Monitoring the Project.

• Methods of Project Evaluation.

• Summary Budget by line item along with a budget justification (this will not be counted against the stated page limit).

Additional information may be included in the application appendices. The appendices will not be counted toward the narrative page limit. This additional information includes:

• Organizational Chart.

• Curriculum Vitae/Resumes of Current Staff.

• Proposed staffing pattern (include qualifications) required to carry out program activities.

You are required to have a Dun and Bradstreet Data Universal Numbering System (DUNS) number to apply for a grant or cooperative agreement from the Federal government. The DUNS number is a nine-digit identification number, which uniquely identifies business entities. Obtaining a DUNS number is easy and there is no charge. To obtain a DUNS number, access http://www.dunandbradstreet.com or call 1-866-705-5711.

For more information, see the CDC Web site at: http://www.cdc.gov/od/pgo/funding/pubcommt.htm. If your application form does not have a DUNS number field, please write your DUNS number at the top of the first page of your application, and/or include your DUNS number in your application cover letter.

Additional requirements that may require you to submit additional documentation with your application are listed in section “VI.2 Administrative and National Policy Requirements.”

IV.3. Submission Dates and Time

Application Deadline Date: July 12, 2004.

Explanation of Deadlines: Applications must be received in the CDC Procurement and Grants Office by 4 p.m. Eastern Time on the deadline date. If you send your application by the United States Postal Service or commercial delivery service, you must ensure that the carrier will be able to guarantee delivery of the application by the closing date and time. If CDC receives your application after closing due to: (1) Carrier error, when the carrier accepted the package with a guarantee for delivery by the closing date and time, or (2) significant weather delays or natural disasters, you will be given the opportunity to submit documentation of the carriers guarantee. If the documentation verifies a carrier problem, CDC will consider the application as having been received by the deadline.

This announcement is the definitive guide on application format, content, and deadlines. It supersedes information provided in the application instructions. If your application does not meet the deadline above, it will not be eligible for review, and will be discarded. You will be notified that your application did not meet the submission requirements.

CDC will not notify you upon receipt of your application. If you have a question about the receipt of your application, first contact your courier. If you still have a question, contact the PGO-TIM staff at: (770) 488-2700. Before calling, please wait two to three days after the application deadline. This will allow time for applications to be processed and logged.

IV.4. Intergovernmental Review of Applications

Executive Order 12372 does not apply to this program.

IV.5. Funding Restrictions

Funding restrictions, which must be taken into account while writing your budget are as follows:

• Antiretroviral Drugs—The purchase of antiretrovirals, reagents, and laboratory equipment for antiretroviral treatment projects require pre-approval from the GAP headquarters.

• Needle Exchange—No funds appropriated under this Act shall be used to carry out any program of distributing sterile needles or syringes for the hypodermic injection of any illegal drug.

• Funds may be spent for reasonable program purposes, including personnel, training, travel, supplies and services. Equipment may be purchased if deemed necessary to accomplish program objectives; however, prior written approval by CDC officials must be requested in writing.

• All requests for funds contained in the budget shall be stated in U.S. dollars. Once an award is made, CDC will not compensate foreign grantees for currency exchange fluctuations through the issuance of supplemental awards.

• The costs that are generally allowable in grants to domestic organizations are allowable to foreign institutions and international organizations, with the following exception: With the exception of the American University, Beirut, and the World Health Organization, Indirect Costs will not be paid (either directly or through sub-award) to organizations located outside the territorial limits of the United States or to international organization regardless of their location.

• The applicant may contract with other organizations under this program; however the applicant must perform a substantial portion of the activities (including program management and operations, and delivery of prevention and care services for which funds are required).

• You must obtain an annual audit of these CDC funds (program-specific audit) by a U.S.-based audit firm with international branches and current licensure/authority in-country, and in accordance with International Accounting Standards or equivalent standard(s) approved in writing by CDC.

• A fiscal Recipient Capability Assessment may be required, prior to or post award, in order to review the applicant's business management and fiscal capabilities regarding the handling of U.S. Federal funds.

Guidance for completing your budget can be found on the CDC Web site, at the following Internet address: http://www.cdc.gov/od/pgo/funding/budgetguide.htm.

Awards will not allow reimbursement of pre-award costs.

IV.6. Other Submission Requirements

Application Submission Address: Submit the original and two hard copies of your application by mail or express delivery service to: Technical Information Management—PA# 04201, CDC Procurement and Grants Office, 2920 Brandywine Road, Atlanta, GA 30341.

Applications may not be submitted electronically at this time.

V. Application Review Information

V.1. Criteria

You are required to provide measures of effectiveness that will demonstrate the accomplishment of the various identified objectives of the cooperative agreement. Measures of effectiveness must relate to the performance goals stated in the “Purpose” section of this announcement. Measures must be objective and quantitative, and must measure the intended outcome. These measures of effectiveness must be submitted with the application and will be an element of evaluation.

Your application will be evaluated against the following criteria:

1. Ability to carry Out the Project (25 points)

Does the applicant provide documents, which demonstrate the organization's capability to achieve the purpose of the project?

2. Technical Approach (20 points)

Does the applicant's proposal include an overall design strategy, including measurable time lines? Does the proposal address regular monitoring and evaluation, and the potential effectiveness of the proposed activities in meeting objectives?

3. Understanding of the Problem (20 points)

Does the applicant demonstrate a clear and concise understanding of the nature of the problem described in the Purpose section of this announcement? Does the applicant include a description of the public health importance of the planned activities to be undertaken and realistic presentation of proposed objectives and projects?

4. Personnel (20 points)

Are professional personnel involved in this project qualified? Does the applicant include evidence of experience in working with HIV/AIDS, opportunistic infections, and HIV/STD surveillance?

5. Plans for Administration and Management of Projects (15 points)

Are plans for administering the projects adequate?

6. Budget (not scored)

Is the itemized budget for conducting the project, along with justification, reasonable and consistent with stated objectives and planned program activities?

V.2. Review and Selection Process

Applications will be reviewed for completeness by the Procurement and Grants Office (PGO) staff, and for responsiveness by NCHSTP/GAP. Incomplete applications and applications that are non-responsive to the eligibility criteria will not advance through the review process.

Applicants will be notified that their application did not meet submission requirements.

An objective review panel will evaluate complete and responsive applications according to the criteria listed in the “V.1. Criteria” section above.

V.3. Anticipated Announcement and Award Dates

September 1, 2004.

VI. Award Administration Information

VI.1. Award Notices

Successful applicants will receive a Notice of Grant Award (NGA) from the CDC Procurement and Grants Office. The NGA shall be the only binding, authorizing document between the recipient and CDC. The NGA will be signed by an authorized Grants Management Officer, and mailed to the recipient fiscal officer identified in the application.

Unsuccessful applicants will receive notification of the results of the application review by mail.

VI.2. Administrative and National Policy Requirements

45 CFR Part 74 and Part 92

For more information on the Code of Federal Regulations, see the National Archives and Records Administration at the following Internet address: http://www.access.gpo.gov/nara/cfr/cfr-table-search.html.

The following additional requirements apply to this project:

• AR-6 Patient Care

• AR-10 Smoke-Free Workplace Requirements

Additional information on these requirements can be found on the CDC Web site at the following Internet address: http://www.cdc.gov/od/pgo/funding/ARs.htm.

VI.3. Reporting Requirements

You must provide CDC with an original, plus two copies of the following reports in English:

1. Interim progress report, no less than 90 days before the end of the budget period. The progress report will serve as your non-competing continuation application, and must contain the following elements:

a. Current Budget Period Activities Objectives.

b. Current Budget Period Financial Progress.

c. New Budget Period Program Proposed Activity Objectives.

d. Budget.

e. Additional Requested Information.

f. Measures of Effectiveness

2. Financial status report no more than 90 days after the end of the budget period.

3. Final financial and performance reports, no more than 90 days after the end of the project period.

These reports must be mailed to the Grants Management Specialist listed in the “Agency Contacts” section of this announcement.

VII. Agency Contacts

For general questions about this announcement, contact: Technical Information Management Section, CDC Procurement and Grants Office, 2920 Brandywine Road, Atlanta, GA 30341, Telephone: (770) 488-2700.

For program technical assistance, contact: Jeanine Ambrosio, Project Officer, Centers for Disease Control and Prevention, NCHSTP/GAP, 1 Corporate Square, Atlanta, GA 30329, Telephone: (404) 639-6340, e-mail: JAmbrosio@cdc.gov.

For budget assistance, contact: Shirley Wynn, Grants Management Specialist, CDC Procurement and Grants Office, 2920 Brandywine Road, Atlanta, GA 30341, Telephone: (770) 488-1515, e-mail: SWynn@cdc.gov.

Dated: June 4, 2004.
William P. Nichols,
Acting Director, Procurement and Grants Office, Centers for Disease Control and Prevention.

[FR Doc. 04-13139 Filed 6-9-04; 8:45 am]

BILLING CODE 4163-18-P